DEPARTMENT OF ENERGY

Federal Energy Regulatory Commission

Combined Notice of Filings #1

Take notice that the Commission received the following electric rate filings:

Docket Numbers: ER18-534-001; ER18-537-001; ER18-536-001; ER18-538-001; ER18-533-001; ER18-535-001; ER12-1436-014; ER18-280-003; ER13-1793-011; ER10-2329-011.

Applicants: Montpelier Generating Station, LLC, Monument Generating Station, LLC, O.H. Hutchings CT, LLC, Sidney, LLC, Tait Electric Generating Station, LLC, Yankee Street, LLC, Eagle Point Power Generation LLC, Lee County Generating Station, LLC, Hazle Spindle, LLC, Vineland Energy LLC.

Description: Notice of Change in Status for the Rockland PJM MBR Sellers.

Filed Date: 4/25/18.

Accession Number: 20180425-5348.

Comments Due: 5 p.m. ET 5/16/18.

Docket Numbers: ER18-1449-000.

Applicants: GASNA 6P, LLC.

Description: § 205(d) Rate Filing: GASNA 6P, LLC MBR Tariff Supplement to be effective 3/15/2018.

Filed Date: 4/27/18.

Accession Number: 20180427-5001.

Comments Due: 5 p.m. ET 5/18/18.

Docket Numbers: ER18-1450-000.

Applicants: GASNA 36P, LLC

Description: § 205(d) Rate Filing: GASNA 36P, LLC MBR Tariff Supplement to be effective 3/15/2018.

Filed Date: 4/27/18.

Accession Number: 20180427-5003.

Comments Due: 5 p.m. ET 5/18/18.

Docket Numbers: ER18-1451-000.

Applicants: Niagara Mohawk Power Corporation, New York Independent System Operator, Inc.

Description: § 205(d) Rate Filing: Interconnection Agreement: NMPC and Village of Ilion SA 2416 to be effective 3/28/2018.

Filed Date: 4/27/18.

Accession Number: 20180427-5049.

Comments Due: 5 p.m. ET 5/18/18.

Docket Numbers: ER18-1452-000.

Applicants: Southwest Power Pool, Inc.

Description: § 205(d) Rate Filing: 1637R3 Kansas Electric Power Cooperative, Inc. NITSA and NOA to be effective 4/1/2018.

Filed Date: 4/27/18.

Accession Number: 20180427-5055.

Comments Due: 5 p.m. ET 5/18/18.

Docket Numbers: ER18-1453-000.

Applicants: PJM Interconnection, L.L.C.

Description: § 205(d) Rate Filing: Amendment to 7 ISAs & 1 WMPA RE: AES Ohio Assignment to be effective 10/5/2007.

Filed Date: 4/27/18.

Accession Number: 20180427-5064.

Comments Due: 5 p.m. ET 5/18/18.

Docket Numbers: ER18-1454-000.

Applicants: Golden Spread Electric Cooperative, Inc.

Description: Compliance filing: OATT Order No. 842 Compliance to be effective 5/15/2018.

Filed Date: 4/27/18.

Accession Number: 20180427-5075.

Comments Due: 5 p.m. ET 5/18/18.

Take notice that the Commission received the following electric securities filings:

Docket Numbers: ES18-30-000.

Applicants: Mississippi Power Company.

Description: Application of Mississippi Power Company for Authorization to Issue Securities under Section 204 of the Federal Power Act.

Filed Date: 4/26/18.

Accession Number: 20180426-5243.

Comments Due: 5 p.m. ET 5/17/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2018.
Kimberly D. Bose,
Secretary.

[FR Doc. 2018-09457 Filed 5-3-18; 8:45 am]

BILLING CODE 6717-01-P